DEPARTMENT OF HEALTH AND HUMAN SERVICES

Administration for Children and Families

[CFDA Number: 93.568]

Final Notice of Reallotment of FY 2014 Funds for the Low Income Home Energy Assistance Program (LIHEAP)

AGENCY: Office of Community Services, ACF, HHS.

ACTION: Final notice of determination concerning fiscal year (FY) 2014 funds available for reallotment.

SUMMARY: The Administration for Children and Families (ACF), Office of Community Services (OCS), Division of Energy Assistance (DEA) announces the final reallotment of $4,324,422 of FY 2014 funds for the Low Income Home Energy Assistance Program (LIHEAP).

DATES: Realloted funds were awarded on September 30, 2015.

FOR FURTHER INFORMATION CONTACT: Lauren Christopher, Director, Division of Energy Assistance, Office of Community Services, 333 C Street SW., 5th Floor, Mail Room 5425, Washington, DC 20201; Telephone (202) 401-4870; email: lauren.christopher@acf.hhs.gov.

SUPPLEMENTARY INFORMATION: In accordance with section 2607(b)(1) of the Low Income Home Energy Assistance Act (the Act), Title XXVI of the Omnibus Budget Reconciliation Act of 1981 (42 U.S.C. 8626(b)(1)), as amended, ACF published a notice in the Federal Register on June 29, 2015, announcing the preliminary determination of the Secretary of the Department of Health and Human Services that $4,352,881 of FY 2014 funds for LIHEAP may be available for reallotment. No comments were received on this notice, nor did any grantees report additional funds for reallotment. However, after such publication, ACF discovered that $28,459 of these funds had already been drawn down from the ACF Payment Management System and would not be available for reallotment. Thus, a final total of $4,324,422 was available for reallotment from FY 2014.

These funds became available from the following grantees in the following amounts:

Reallotment Amounts of FFY 2014 LIHEAP Funds
Grantee name | FY 2014 Reallotment amount
Delaware Tribe of Indians | $8,090
Colorado River Indian Tribes of the Colorado River Indian Reservation | 12,667
Five Sandoval Indian Pueblos, INC. | 13,243
Kodiak Area Native Association | 1,070
West Virginia | 4,289,352
Total | 4,324,422

Pursuant to the statute cited, these funds were reallotted on September 30, 2015, to all current LIHEAP grantees by distributing them under the formula Congress set for FY 2015 funding. The only exception is that grantees whose allocations would have been less than $25 did not receive an award.

The reallotted funds may be used for any purpose authorized under LIHEAP. Grantees must add these funds to their total LIHEAP funds payable for FY 2015 for purposes of calculating statutory caps on administrative costs, carryover, assurance 16 activities, and weatherization assistance.

Statutory Authority: 45 CFR 96.81 and 42 U.S.C. 8626(b)(1).

Mary M.Wayland,
Senior Grants Policy Specialist, Division of Grants Policy, Office of Administration.

[FR Doc. 2016-12806 Filed 5-31-16; 8:45 am]

BILLING CODE 4184-80-P